DEPARTMENT OF TRANSPORTATION

Surface Transportation Board

[STB Finance Docket No. 35264]

Elgin, Joliet & Eastern Railway Company—Trackage Rights Exemption―Illinois Central Railroad Company

Pursuant to a written trackage rights agreement dated July 13, 2009, Illinois Central Railroad Company (IC) has agreed to grant nonexclusive trackage rights to Elgin, Joliet & Eastern Railway Company (EJE) over 27 miles of rail line owned by IC between milepost 7.9 at Chicago, IL (Lemoyne) and milepost 3.5 at Chicago (Bridgeport) on IC's Joliet Subdivision; between IC's connection with The Belt Railway Company of Chicago and the Chicago, Central & Pacific Railroad Company and milepost 8.3 at Chicago (Belt Crossing) and milepost 2.1 (16th Street) at Chicago on IC's Freeport Subdivision; and between milepost 1.5 (16th Street) at Chicago and IC's connection to the Indiana Harbor Belt Railroad Company at milepost 17.9 at Riverdale, IL (Highlawn) on IC's Chicago Subdivision.¹

¹ A redacted version of the trackage rights agreement between EJE and IC was filed with the notice of exemption. The full version of the agreement, as required by 49 CFR 1180.6(a)(7)(ii), was concurrently filed under seal along with a motion for protective order. The motion is being addressed in a separate decision.

The transaction is scheduled to be consummated on or about September 4, 2009, the effective date of the exemption (30 days after the exemption is filed). The purpose of the trackage rights is to enable EJE to efficiently handle freight movements between Lemoyne and Highlawn on IC's Chicago Subdivision. The transaction also extends to all industry spurs, connecting tracks and sidings now existent or hereafter constructed along the tracks to be used here, and right-of-way for the tracks to be used here, signals, interlocking devices and plants, telegraph and telephone lines, and other appurtenances necessary to the use of those tracks.

This is one of 17 notices of exemption for trackage rights in the Chicago area submitted simultaneously by carrier subsidiaries of the Canadian National Railway Company (CN). We note that the involved lines of railroad were examined as part of the project area in Canadian National Railway Company and Grand Trunk Corporation—Control—EJ&E West Company, Finance Docket No. 35087 (STB served Dec. 24, 2008) (CN—EJ&E). Neither CN nor any of the carriers submitting these notices has explained how the notices relate to each other, or how they would impact the operational information provided to the Board in CN—EJ&E. CN and its carrier subsidiaries are directed to submit this information, as well as a color-coded map showing all 17 proposed trackage rights exemptions, by August 21, 2009.

As a condition to this exemption, any employees affected by the acquisition of the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by August 28, 2009 (at least 7 days before the exemption becomes effective).

Pursuant to the Consolidated Appropriations Act, 2008, Public Law No. 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35264, must be filed with the Surface Transportation Board, 395 E Street, SW., Washington, DC 20423-0001. In addition, a copy of each pleading must be served on Thomas J. Healey, Counsel—Regulatory, CN, 17641 S. Ashland Ave., Homewood, IL 60430.

Board decisions and notices are available on our Web site at http://www.stb.dot.gov.

It is ordered:

The carriers filing this notice and CN are hereby directed to file by August 21, 2009: (1) An explanation of how this notice relates to the 16 other notices filed simultaneously by carrier subsidiaries of CN, (2) an explanation of how these notices would impact the information provided to the Board in CN—EJ&E, and (3) a color-coded map.

Decided: August 17, 2009.
By the Board, Rachel D. Campbell, Director, Office of Proceedings.
Jeffrey Herzig,
Clearance Clerk.

[FR Doc. E9-20055 Filed 8-20-09; 8:45 am]

BILLING CODE 4915-01-P